COMMITTEE FOR PURCHASE FROM PEOPLE WHO ARE BLIND OR SEVERELY DISABLED

Procurement List; Proposed Additions and Deletions

AGENCY: Committee for Purchase From People Who Are Blind or Severely Disabled.

ACTION: Proposed additions to and deletions from the Procurement List.

SUMMARY: The Committee is proposing to add services to the Procurement List that will be furnished by nonprofit agencies employing persons who are blind or have other severe disabilities, and deletes product and services previously furnished by such agencies.

DATES: Comments must be received on or before: May 5, 2019.

ADDRESSES: Committee for Purchase From People Who Are Blind or Severely Disabled, 1401 S Clark Street, Suite 715, Arlington, Virginia 22202-4149.

FOR FURTHER INFORMATION CONTACT: For further information or to submit comments contact: Michael R. Jurkowski, Telephone: (703) 603-2117, Fax: (703) 603-0655, or email CMTEFedReg@AbilityOne.gov.

SUPPLEMENTARY INFORMATION: This notice is published pursuant to 41 U.S.C. 8503(a)(2) and 41 CFR 51-2.3. Its purpose is to provide interested persons an opportunity to submit comments on the proposed actions.

Additions

If the Committee approves the proposed additions, the entities of the Federal Government identified in this notice will be required to procure the services listed below from nonprofit agencies employing persons who are blind or have other severe disabilities.

The following services are proposed for addition to the Procurement List for production by the nonprofit agencies listed:

Services

Service Type: Grounds Maintenance

Mandatory for: Federal Aviation Administration, Norfolk Air Traffic Control Tower, Virginia Beach, VA and Patrick Henry Field Air Traffic Control Tower, Newport News, VA

Mandatory Source of Supply: Portco, Inc., Portsmouth

Mandatory for: Federal Aviation Administration, Patrick Henry Field (PHF) Air Traffic Control Tower, Newport News, VA

Mandatory Source of Supply: VersAbility Resources, Inc., Hampton, VA

Contracting Activity: Federal Aviation Administration, FAA, Regional Acquisitions Services

Deletions

The following product and services are proposed for deletion from the Procurement List:

Product

NSNs—Product Names: 3740-01-096-1632—Trap, Roach, Monitor

Mandatory Source of Supply: The Arc of Alachua County, Inc., Gainesville, FL

Contracting Activity: DLA Aviation, Richmond, VA

Services

Service Type: Administrative Services

Mandatory for: GSA, Northeast Distribution Center: Federal Supply Service (3FS), Burlington, NJ

Mandatory Source of Supply: Occupational Training Center of Burlington County, Burlington, NJ

Contracting Activity: Federal Acquisition Service, GSA/FAS Tools Acquisition Division II

Service Type: Janitorial/Elevator Operator

Mandatory for: Southeast Federal Center: Buildings 159, 159E & 160, 2nd & M Streets SE, Washington, DC

Mandatory Source of Supply: Davis Memorial Goodwill Industries, Washington, DC

Contracting Activity: Dept of the Navy, U.S. Fleet Forces Command

Service Type: Janitorial/Custodial

Mandatory for: Internal Revenue Service: 120 Church Street, New York, NY

Mandatory Source of Supply: Fedcap Rehabilitation Services, Inc., New York, NY

Contracting Activity: Treasury, Department of the, Dept of Treas/

Service Type: Janitorial/Custodial

Mandatory for: U.S. Army Reserve Center: Elkins, Beverly, WV

Mandatory Source of Supply: Buckhannon-Upshur Work Adjustment Center, Inc., Buckhannon, WV

Contracting Activity: Dept of the Army, W40M RHCO-Atlantic USAHCA

Patricia Briscoe,
Deputy Director, Business Operations (Pricing and Information Management).

[FR Doc. 2019-06661 Filed 4-4-19; 8:45 am]

BILLING CODE 6353-01-P